DEPARTMENT OF COMMERCE

National Oceanic and Atmospheric Administration

[Docket No.021127290-3113-02; I.D. 033103C]

RIN 0648-ZB44

Financial Assistance for Research and Development Projects in the Gulf of Mexico and Off the U.S. South Atlantic Coastal States; Marine Fisheries Initiative (MARFIN)

AGENCY: National Marine Fisheries Service (NMFS), National Oceanic and Atmospheric Administration (NOAA), Commerce.

ACTION: Notice of solicitation for applications.

SUMMARY: The MARFIN program provides financial assistance for research and development projects that optimize the use of fisheries in the Gulf of Mexico and off the South Atlantic States of North Carolina, South Carolina, Georgia, and Florida involving the U.S. fishing industry (recreational and commercial), including fishery biology, resource assessment, socio-economic assessment, management and conservation, selected harvesting methods, and fish handling and processing.

DATES: We must receive your application by close of business (5 p.m. eastern standard time on June 27, 2003. Applications received after that time will not be considered for funding. The earliest start date of awards is about 200 days after the date of publication of this notice. Applicants should consider this processing time in developing requested start dates for their applications.

ADDRESSES: You can obtain an application package from, and send your completed applications(s) to: National Marine Fisheries Service, State/Federal Liaison office, 9721 Executive Center Drive N., St. Petersburg, FL 33702. You may also obtain the application package from the MARFIN Home Page at: http://caldera.sero.nmfs.gov/grants/grants.htm.

FOR FURTHER INFORMATION CONTACT: Ellie Francisco Roche, Chief, State/Federal Liaison Office at 727-570-5324.

SUPPLEMENTARY INFORMATION:

I. Funding Opportunity Description

MARFIN is a competitive Federal assistance program that funds projects seeking to optimize research and development benefits from U.S. marine fishery resources through cooperative efforts involving the best research and management talents to accomplish priority activities. Projects funded under MARFIN provide answers for fishery needs covered by the NMFS Strategic Plan, available from the Southeast Regional Office (see ADDRESSES), particularly those goals relating to: rebuilding over-fished marine fisheries, maintaining currently productive fisheries, and integrating conservation of protected species and fisheries management. Funding priorities for MARFIN are formulated from recommendations received from non-Federal scientific and technical experts and from NMFS' research and operations officials.

Your proposal must address one of the funding priorities listed below as they pertain to federally managed species or species relevant to Federal fisheries management. If you select more than one priority, you should list first on your application the priority that most closely reflects the objectives of your proposal.

Highest consideration is given to funding projects that have the greatest probability of recovering, maintaining, improving, or developing fisheries; improving the understanding of factors affecting recruitment success; and/or generating increased values and recreational opportunities for fisheries. Projects are evaluated as to the likelihood of achieving these objectives, with consideration of the magnitude of the eventual economic or social benefits that may be realized. Priority is given to funding projects in the subject areas listed in this section, but proposals in other areas are considered on a funds-available basis. There is no preference between short-term and long-term projects.

A. Bycatch

The bycatch of biological organisms (including interactions with sea turtles and marine mammals) by various fishing gears can have wide-reaching impacts from a fishery's management and an ecological standpoint, with the following major concerns:

1. Shrimp trawl fisheries. Studies are needed to contribute to the regional shrimp trawl bycatch program (including the southern U.S. Atlantic rock shrimp fishery) being conducted by NMFS in cooperation with state fisheries management agencies, commercial and recreational fishing organizations and interests, environmental organizations, universities, Councils, and Commissions. Specific guidance and research requirements are contained in the Cooperative Bycatch Plan for the Southeast, available from NMFS (see ADDRESSES). In particular, the studies should address:

(a) Data collection and analyses to expand and update current bycatch estimates, temporally and spatially emphasizing areas of greatest impact by shrimping. Sampling effort should include estimates of numbers, weight, and random samples of size (age) structure of associated bycatch complex, with emphasis on those overfished species under the jurisdiction of the Councils. Date collection should also include mortality, age, and length information for red drum in both inshore and offshore shrimp fisheries.

(b) Assessment of the status and condition of fish stocks significantly impacted by shrimp trawler bycatch, with emphasis given to overfished species under the jurisdiction of the Councils. Other sources of fishing and nonfishing mortality should be considered and quantified as well.

(c) Identification, development, and evaluation of gear, non-gear, and tactical fishing options to reduce bycatch.

(d) Improved methods for communicating with and improving technology and information transfer to the shrimp industry.

(e) Development and evaluation of statistical methods to estimate the bycatch of priority management species in the Gulf and South Atlantic shrimp trawl fisheries.

2. Pelagic longline fisheries. Several pelagic longline fisheries exist in the Gulf and South Atlantic, targeting highly migratory species, such as tunas, sharks, and swordfish. Priority areas include:

(a) Development and evaluation of gear and fishing tactics to minimize bycatch of undersized and unwanted species, including sea turtles, marine mammals, billfish, and overfished finfish species/stocks.

(b) Assessment of the biological impact of longline bycatch on related fisheries.

3. Reef fish fisheries. The reef fish complex is exploited by a variety of fishing gear and tactics. The following research on bycatch of reef fish species is needed: Characterization and assessment of the impact of bycatch of undersized target species, including release mortality, during recreational fishing and during commercial longline, bandit gear and trap fishing.

4. Finfish trawl fisheries. Studies are needed on quantification and qualification of the bycatch in finfish trawl fisheries, such as the flounder and fly-net fisheries in the South Atlantic.

B. Reef Fish

Some species within the reef fish complex are exhibiting signs of being overfished, either because of directed efforts or because of being the bycatch of other fisheries. The ecology of reef fish makes them vulnerable to overfishing, because they tend to concentrate over specific types of habitat with patchy distribution. This behavior pattern can make traditional fishery statistics misleading. Priority research areas include:

1. Collection of basic biological data for species in commercially and recreationally important fisheries. (a) Age and growth of reef fish. (1) Description of age and growth patterns, especially for vermilion, gray, and cubera snappers; gray triggerfish; gag; black grouper; hogfish; red porgy; and other less dominant forms in the management units for which data are lacking.

(2) Collect otoliths on groupers, snappers and other reef fish according to Gulf States Marine Fisheries Commission (GSMFC) otolith manual. If proposal is selected for funding, coordinate studies and design of sampling systems to provide production-style aging programs for the reef fish fishery with Steve VanderKooy at GSMFC (228) 875-5912.

(b) Reproduction studies of reef fish. (1) Maturity schedules, fecundity, and sex ratios of commercially and recreationally important reef fish, especially gag and other groupers in the Gulf and South Atlantic.

(2) Studies of all species to characterize the actual reproductive contribution of females by age.

(3) Identification and characterization of spawning aggregations by species, area, size group and season, especially for gag and other groupers.

(4) Effects of fishing on changes of sex ratios for gag, red grouper, and scamp, and disruption of aggregations.

(5) Investigations of the reproductive biology of gag, red grouper and other grouper species.

(c) Recruitment of reef fish. (1) Source of recruitment in Gulf and South Atlantic waters, especially for snappers, groupers, amberjacks, and other reef fish.

(2) Annual estimation of the absolute or relative recruitment of juvenile gag, gray snapper, and lane snapper to estuarine habitats off the west coast of Florida and to similar estuarine nursery habitats along the South Atlantic Bight; development of an index of juvenile gag recruitment for the South Atlantic based on historical databases and/or field studies.

(3) The contribution of live-bottom habitat and habitat areas of particular concern (Oculina banks) off Fort Pierce, Florida and off west central Florida to reef fish recruitment.

(d) Stock structure of reef fish. (1) Movement and migration patterns of commercially and recreationally valuable reef fish species, especially gag in the Gulf and South Atlantic and greater amberjack between the South Atlantic and Gulf.

(2) Stock structure of greater amberjack in the Gulf and South Atlantic.

(3) Fishery dependent and fishery independent data of wreakfish from the eastern North Atlantic.

2. Population assessment of reef fish. (a) Effect of reproductive mode and sex change (protogynous hermaphroditism) on population size and characteristics, with reference to sizes of fish exploited in the fisheries and the significance to proper management.

(b) Determination of the habitat and limiting factors for important reef fish resources in the Gulf and South Atlantic.

(c) Description of habitat and fish populations in the deep reef community and the prey distributions supporting the community.

(d) Development of statistically valid indices of abundance for important reef fish species in the South Atlantic and Gulf, especially red grouper, Goliath grouper, speckled hind, red porgy, Warsaw grouper and Nassau grouper.

(e) Stock assessments to establish the status of major recreational and commercial species. Innovative methods are needed for stock assessments of aggregate species, including the effect of fishing on genetic structure and the incorporation of sex change for protogynous hermaphrodites into stock assessment models.

3. Management of reef fish. (a) Research in direct support of management, including catch-and-release mortalities, by gear and depth.

(b) Characterization and evaluation of biological impacts (e.g., changes in age or size structure of reef fish populations in response to management strategies).

C. Red Snapper Research

1. Red snapper bycatch. The bycatch of red snapper can have significant impacts from a fisheries management and ecological standpoint. Research on bycatch of red snapper should focus on the following:

(a) Directed red snapper fisheries. The reef fish fishery is exploited by a variety of fishing gear and tactics. The following research on regulatory discards is needed to better evaluate the effectiveness of management measures such as minimum size limits and closed seasons:

(1) Development and evaluation of gear and fishing tactics to minimize the bycatch of or increase the survival of discarded red snapper and other reef fish species.

(2) Characterization and assessment of the impact of bycatch of undersized reef fish species, including release mortality, during recreational and commercial fishing. Research on the catch-and-release mortality of red snapper and other reef fish species, by gear (e.g., capture by commercial bandit rigs that are electrically or hydraulically powered), fishery (e.g., headboat, private boat, charter boat, commercial), and depth. Studies are needed to specifically relate “sink or swim” data, which can be obtained through observer programs, with long-term survival rates.

(3) Research to document predation rates on discarded red snapper and other reef fish species.

3. Red snapper population assessment. (a) Determination of the habitat and limiting factors for important red snapper populations in the Gulf.

(b) Estimates of red snapper abundance, age structure and population dynamics on oil platforms and other artificial structures.

4. Management of red snapper. (a) Characterization and evaluation of biological impacts (e.g., changes in age or size structure of red snapper populations in response to management strategies).

(b) Research to evaluate the use of minimum size limits as a management tool in the red snapper fishery.

D. Coastal Migratory Pelagic Fisheries

The commercial and recreational demand for migratory coastal pelagics has led to overfishing for certain species. Additionally, some are transboundary with Mexico and other countries and may ultimately demand international management attention. Current high priorities include:

1. Recruitment indices for king and Spanish mackerel, cobia, dolphin, wahoo, and bluefish, primarily from fishery-independent data sources.

2. Fishery-independent methods of assessing stock abundance of king and Spanish mackerel, dolphin and wahoo.

3. Release mortality data for all coastal pelagic species.

4. Improved catch statistics for all species in Mexican waters, with special emphasis on king mackerel, dolphin, and wahoo. This includes length-frequency and life history information.

5. Information on populations of coastal pelagics overwintering off the Gulf of Mexico and the South Atlantic States of North Carolina, South Carolina, Georgia, and Florida, especially concerning population size, age, and movement patterns; and for dolphin and wahoo during the entire year throughout their migratory patterns. Calculate the mixing rates for Atlantic/Gulf king mackerel on an annual basis.

6. Development of a practical method for aging dolphin.

7. Basic biostatistics for cobia, dolphin, and wahoo to develop age-length keys and maturation schedules for stock assessments and to evaluate stock structures.

8. Impact of bag limits on total catch and landings of king and Spanish mackerel, dolphin, wahoo, and cobia.

E. Groundfish and Estuarine Fishes

Substantial stocks of groundfish and estuarine species occur in the Gulf and South Atlantic. Most of the database for assessments comes from studies conducted by NMFS and state fishery management agencies. Because of the historical and current size of these fish stocks, of their importance as predator and prey species, and of their current or potential use as commercial and recreational fisheries, more information on their biology and life history is needed. General research needs are:

1. Red drum. (a) Size and age structure of the offshore adult stock in the Gulf and South Atlantic.

(b) Catch-and-release mortality rates from inshore and nearshore waters.

(c) Estimates of absolute abundance of red drum in the Gulf of Mexico and the Atlantic.

2. Life history and stock structure for weakfish, menhaden, spot, croaker, flounder, sheepshead, black drum, mullet, and white trout in the Gulf and the South Atlantic: Migratory patterns, long-term changes in abundance, growth rates, and age structure and comparisons of the inshore and offshore components of recreational and commercial fisheries.

F. Essential Fish Habitat

1. Determine the effects of fishing gears (e.g., trawls and traps) and practices (e.g., gear retrieval and anchoring) on essential fish habitat (EFH), with emphasis on benthic habitats within the EEZ of the Caribbean, southern U.S. Atlantic, and Gulf of Mexico regions.

2. Develop scientific data to allow the identification and refinement, as appropriate, of EFH designations for the various life stages of Federally managed species.

3. Develop scientific data to allow the identification and refinement, as appropriate, of Habitat Areas of Particular Concern (HAPC) designation for the various life stages of Federally managed species.

4. Develop GIS mapping protocols and tools to allow the presentation of EFH, HAPC, fishery distribution information, and other relevant data for the southeastern United States, including Puerto Rico and the U.S. Virgin Islands.

G. Economic and Sociocultural Studies

1. Development and application of models to evaluate the economic impacts of bycatch reduction. The models should explicitly consider the impacts on the directed fishery and gains to the bycatch fishery. The models should be developed for fisheries in general and for major fisheries (e.g., shrimp and red snapper). The models should describe criteria for determining the economically and socially efficient level of bycatch reduction.

2. Development of economic incentives and other innovative alternatives, including bycatch quotas, to gear and season/area restrictions as ways to reduce bycatch. The project should contrast the relative costs, potential gains, and level of bycatch reduction associated with traditional methods and any innovative alternatives addressed by the project.

3. Evaluation of vessel logbook data for monitoring fishery performance and providing economic information for management.

4. Estimation of demand models for recreational fishing trips when the target species include a single species, an aggregate of related species, or all species combined. Studies using new data from the Southeast economics add-ons to Marine Recreational Fisheries Statistics Survey are highly encouraged. Studies can be proposed on species such as, red drum, king mackerel, Spanish mackerel, red grouper, gag, black grouper, dolphin, wahoo, vermilion snapper, yellowtail snapper, and Atlantic black sea bass. Fishing quality (stock size, catch per unit effort, average fish size) as a determinant of fishing demand should be emphasized.

5. Identification of the motivational factors behind the selection of specific charter types by recreational anglers. These include but are not limited to cost, duration (half day versus full day), time of day, size of the charter (number of passengers), services offered, etc.

6. Determination of the value and economic impact of recreational angling in the headboat fishery. This will require the collection of data to generate recreational trip demand equations for fishing in general and for various key species. Economic impact assessment will require the collection of appropriate expenditure data and imputation using standard impact assessment software.

7. Design and evaluation of limited access options for recreational fisheries with specific emphasis on modes of fishing and jurisdictional issues. Key species of emphasis are red snapper, king mackerel, red grouper, gag and black grouper.

8. Estimation of fishing behavioral models, and effort supply and production functions for the commercial and for-hire sectors. Specific attention should be given to species target behavior, time and space decisions, and whether profit maximization is an appropriate motivational assumption for the supply of fishing effort. This intent of this research is to determine the basis upon which fishermen make their fishing related decisions (e.g., when to fish, where to fish, how much to fish, what species to target, what gear to use, etc.)

9. Description of the social, cultural, and /or economic aspects of establishing fishery reserves. Studies should employ accepted data collection methods. Various management alternatives should be considered in the studies, e.g., exclude all users, all consumptive users, varying the size of the reserve, anchoring rules, and other relevant management tools.

10. Comparison of the expected economic and social impacts of previously implemented fisheries regulations with realized impact for all regulated species. Attempts should be made to identify and isolate behavioral causes of divergence as opposed to environmental causes.

11. In-depth community profiles of communities previously identified by NOAA Fisheries as fishing communities in the South Atlantic. Profiles to include descriptions of the community, commercial and recreational fishing-related activities and businesses, historical information on fishing related activities, community structure and social ties based on fishing, and changes in the community due to federal regulations on the fisheries. The project should also focus on demographics of people in the community to determine the relative income and poverty index for the community and potential of employment outside the fishing industry.

12. Non-market valuation of protected species and other marine resources.

13. Examination of the feasibility and efficacy of vessel and/or license buy-back programs. Key fisheries are the shrimp and reef fish fisheries (red snapper, vermilion snapper, king mackerel, red grouper, gag).

14. Evaluation of alternative effort control management measures in federally managed commercial fisheries. Analyses should include a comparison of potential economic, social, cultural, and ecological impacts at the vessel, individual, and community level, and examine the desirability of single species versus multiple species approaches. Depending on the fishery and its current management structure, possible alternatives include but are not limited to: control dates for permits; limited entry; transferable or non-transferable individual catch, individual effort, community catch, or community effort quotas; and cooperatives or other forms of co-management. For catch and effort quotas, the efficacy of initially allocating and segmenting quota markets by gear, vessel fishing power capacity, and by state or community should be explicitly addressed.

15. Evaluation of the extent and impact of recreational sales (all species, by species) on recreational harvests, commercial closures and demand for recreational fishing.

16. Evaluation of the transference of fishing opportunity between commercial, recreational, and conservation sectors under a transferable rights program. Key fisheries are the red snapper, vermilion snapper, king mackerel, Spanish mackerel, red grouper, and gag fisheries.

17. Development of improved methods and procedures for transferring technology and educating constituency groups concerning fishery management and conservation programs. Of special importance are programs concerned with controlled access and introduction of conservation gear.

18. Research that examines the effects of factors other than fishery management on the welfare of the Southeast's fishermen and fishing communities, including but not necessarily limited to: domestic and foreign trade policies, macroeconomic conditions, energy policies/prices, insurance rates, foreign aid policies (e.g. World Bank, IMF, OECD, etc.), and coastal economic development (including both land use and water use, with a particular focus on pollution generating activities and gentrification).

19. A comparative analysis of management/regulation in the seafood industry relative to other food producing industries that operate under the USDA's control.

20. Development of methodologies to accurately assess the cumulative economic and social impacts of fishery management regulations on fishermen and fishing communities, and to separate such from the impacts of non-fishery management factors.

21. An empirically based assessment of how and to what extent “demand side” policies and programs are likely to affect the welfare of domestic fishermen and fishing communities, as well as domestic consumers. Analyses should specifically include estimation of supply and consumer demand elasticities by product form and type, explicitly taking the role of imports into account. Such policies and programs would include: product and quality standards (similar to those employed in the beef, pork, and poultry industries), eco-labeling, country of origin labeling, and marketing of domestically produced seafood (i.e. “Buy U.S.”). This research should specifically address the magnitude and distribution of costs and benefits for providing additional product information to seafood consumers.

22. Development of point of sales materials (recipes, posters, etc. to be used in retail establishments) to promote sales of domestic wild harvested shrimp.

23. Evaluation of the economic effects of hypoxia on Gulf of Mexico fisheries.

II. Award Information

We are soliciting applications for Federal assistance pursuant to 15 U.S.C. 713c-3(d). This document describes how to apply for funding under the MARFIN Grant Program and how we will determine which applications we will fund.

Approximately $2.2 million may be available in fiscal year (FY) 2004 for projects. This amount includes possible in-house projects and $500,000 for 1-year projects for red snapper research. (See I. Funding Opportunities.) Publication of this notice does not obligate NMFS to fund an award or any parts of an award since funds will be contingent upon availability of funding.

Project proposals accepted for funding with a project period over 1 year do not have to compete for the additional years of funding. However, funding for the additional years, is contingent upon the availability of funds and satisfactory performance and is at the sole discretion of the agency.

This program is described in the “Catalog of Federal Domestic Assistance” under program number 11.433, Marine Fisheries Initiative (MARFIN).

III. Eligibility Information

1. Eligible applicants include institutions of higher education, hospitals, other nonprofits, commercial organizations, and state, local and Indian tribal governments. Federal agencies or institutions are not eligible. Foreign governments, organizations under the jurisdiction of foreign governments, and international organizations are excluded for purposes of this solicitation since the objective of the MARFIN program is to optimize research and development benefits from U.S. marine fishery resources.

We are strongly committed to broadening the participation of Historically Black Colleges and Universities, Hispanic Serving Institutions, and Tribal Colleges and Universities in its educational and research programs. DOC/NOAA's goals are to achieve full participation by Minority Serving Institutions (MSI) in order to advance the development of human potential, to strengthen the nation's capacity to provide high-quality education, and to increase opportunities for MSIs to participate in and benefit from Federal financial assistance programs. DOC/NOAA encourages all applicants to include meaningful participation of MSIs.

2. Cost Sharing: Cost-sharing is not required for the MARFIN program. Applications must provide the total budget necessary to accomplish the project, including contributions and/or donations. Because 15 U.S.C. 713c-3(c)(4)(B) provides that the amount of Federal funding must be at least 50 percent of the estimated cost of the project, the total costs shown in the proposal will be evaluated for appropriateness according to the administrative rules, including 15 CFR 14.23 and 15 CFR 24.24, as appropriate. If an applicant chooses to cost-share, and if that application is selected for funding, the applicant is bound by the percentage of the cost share reflected in the grant or cooperative agreement award. Note: Costs incurred in either the development of a project or the financial assistance application, or time expended in any subsequent discussions or negotiations prior to the award, are neither reimbursable nor recognizable as part of the recipient's cost share.

IV. Application and Submission Information

1. Address to Request Application Package: You can obtain an application package from, and send your completed applications(s) to: Ellie Francisco Roche, Chief, State/Federal Liaison Office, Southeast Regional Office, NMFS, 9721 Executive Center Drive, N., St. Petersburg, FL 33702. You may also obtain the application package from the MARFIN Home Page at: http://caldera.sero.nmfs.gov/grants/grants.htm.

You must submit one signed original and nine signed copies of the completed application (including supporting information). We will accept neither facsimile applications, nor electronically forwarded applications.

2. Content and Form of Application Submission - We will award grants or cooperative agreements for a maximum period of up to 3 years, consisting of one, two, or three budget periods. The award period depends upon the duration of funding requested in the application, the decision of the NMFS selecting official on the amount of funding, the results of post-selection negotiations between the applicant and NOAA officials, and pre-award review of the application by NOAA and Department of Commerce (DOC) officials. Normally, each project budget period is 12 months in duration.

The Department of Commerce Pre-Award Notification Requirements for Grants and Cooperative Agreements contained in the Federal Register notice of October 1, 2001 (66 FR 49917), as amended by the Federal Register notice published on October 30, 2002 (67FR 55109), is applicable to this solicitation. The standard forms in a MARFIN application include the MARFIN Project Budget and the MARFIN Project Summary. Applicants should contact the NMFS Southeast Regional Office for a copies of this solicitation's MARFIN application forms (see ADDRESSES). You may also obtain the application package from the MARFIN Home Page at: http://caldera.sero.nmfs.gov/grants/grants.htm.

Project applications must identify the principal participants, and include copies of any agreements describing the specific tasks to be performed by participants. Project applications should give a clear presentation of the proposed work, the methods for carrying out the project, its relevance to managing and enhancing the use of Gulf of Mexico and/or South Atlantic fishery resources, and cost estimates as they relate to specific aspects of the project. Budgets must include a detailed breakdown, by category of expenditures, with appropriate justification for both the Federal and non-Federal shares.

Applications should exhibit familiarity with related work that is completed or ongoing. Where appropriate, proposals should be multi-disciplinary. In addition to referencing specific area(s) of special interest, proposals should state whether the research applies to the Gulf of Mexico only, the South Atlantic only, or to both areas. Successful applicants may be required to collect and manage data in accordance with standardized procedures and formats approved by NMFS and to participate with NMFS in specific cooperative activities that are determined by consultations between NMFS and successful applicants before project grants are awarded. All applications must include funding for the principal investigator to participate in an annual MARFIN Conference in the southeast regional area at the completion of the project.

Applications must be one-sided and unbound. Incomplete applications will be returned to the applicant. Ten copies (one original and nine copies) of each application are required and should be submitted to the NMFS Southeast Regional Office, State/Federal Liaison Office (see ADDRESSES). The Office of Management and Budget (OMB) has approved 10 copies, under OMB Control No. 0648-0175.

3. Submission Dates and Times - We must receive your application by close of business (5 p.m. eastern daylight time on June 27, 2003. Applications received after that time will not be considered for funding. The earliest start date of awards is about 200 days after the date of publication of this notice. Applicants should consider this processing time in developing requested start dates for their applications.

When we receive applications we will screen them to ensure that they were received by the deadline date (see DATES); include SF 424 signed and dated by an authorized representative; were submitted by an eligible applicant; address one of the funding priorities for federally managed species; and include a budget, statement of work, and milestones, and identify the principal investigator. We do not have to screen applications before the submission deadline in order to identify deficiencies that would cause your application to be rejected so that you would have an opportunity to correct them. However, should we do so and provide you information about deficiencies, or should you independently decide it is desirable to do so, you may correct any deficiencies in your application before the deadline. After the deadline, the application must remain as submitted; no changes can be made to it. If your application does not conform to these requirements and the deadline for submission has passed, the application will be returned without further consideration.

4. Intergovernmental Review - Applications under this program are subject to the provisions of Executive Order 12372, “Intergovernmental Review of Federal Programs.” Applicants must contact their State's Single Point of Contact (SPOC) to find out about and comply with the State's process under EO 12372. The names and addresses of the SPOCs are listed in the Office of Management and Budget's home page at http://www.whitehouse.gov/omb/grants/spoc.html.

5. Funding Restrictions - Construction is not an allowable activity under this program. Therefore, applications will not be accepted for construction projects.

Indirect Costs - If you have a negotiated rate with a Federal agency, the total dollar amount of the indirect costs awarded under this program will not exceed the indirect cost rate negotiated and approved by a cognizant Federal agency prior to the proposed effective date of the award or 25 percent of the Federal share of the total proposed direct costs dollar amount in the application, whichever is less. A copy of the current negotiated Indirect Cost Agreement with the Federal Government must be included with the application. If the applicant does not have a negotiated cost rate, then they may direct cost all charges, or submit a request to establish a rate.

6. Other Submission Requirements - You must meet all application requirements and provide all information necessary for the evaluation of the proposal, including one signed original and nine signed copies of the application to the NMFS Southeast Regional Office, State/Federal Liaison Office (see ADDRESSES). You must also be available to respond to questions during the review and evaluation of the proposal(s).

V. Application Review Information

1. Criteria - Applications responsive to this solicitation will be evaluated by three or more appropriate private and/or public sector experts to determine their technical merit. These reviewers will provide individual evaluations of the proposals. No consensus advice will be given. These reviewers provide comments and assign scores to the applications based on the following criteria, with the weights shown in parentheses:

a. Does the proposal have a clearly stated goal(s) with associated objectives that meet the needs outlined in the project narrative? (30 points maximum)

b. Does the proposal clearly identify and describe, in the project outline and statement of work, scientific methodologies and analytical procedures that will adequately address project goals and objectives? (30 points maximum)

c. Do the principal investigators provide a realistic timetable to enable full accomplishment of all aspects of the research? (20 points maximum)

d. How effective are the proposed methods in enabling the principal investigators to maintain stewardship of the project performance, finances, cooperative relationships, and reporting requirements? (10 points maximum)

e. Does the budget appropriately allocate and justify costs? (10 points maximum)

2. Review and Selection Process - Following the technical review, we will determine the weighted score for each individual review and average the individual technical review scores to determine the final technical score for each application. Then, we will rank applications in descending order by their final technical scores. A “cutoff” score of 70% will be used and those applications that scored below the cutoff will be eliminated from further consideration.

MARFIN Panel. Those applications at or above the cutoff technical evaluation score will be presented to a panel of non-NOAA fishery experts known as the MARFIN Panel. Each member of the MARFIN Panel individually considers if needs of the Agency are addressed in each proposal, if the project assists industry, and if the project addresses issues that are important to regional fisheries management. The individuals on the MARFIN Panel provide comments and rate each of these proposals as either “Recommended for Funding” or “Not Recommended for Funding.” No consensus advice will be given by the panel. The Program Manager ranks the proposals in the order of preferred funding, based on the number of MARFIN Panel members recommending the proposal for funding.

Regional Administrator. The ranked proposals are provided to the Regional Administrator, who is the selecting official, in the order of preferred funding, based on the number of MARFIN Panel members recommending the proposal for funding. If there are ties in the rankings, those ties will be distinguished by the peer review score. The Regional Administrator also receives the MARFIN Panel members' individual comments.

The Regional Administrator, in consultation with the Assistant Administrator for Fisheries, determines the projects to be recommended for funding. Though rarely used, the Regional Administrator has an option to make a selection that falls outside the MARFIN Panel's order of preferred funding on the following grounds: for geographic diversity, if not enough projects have addressed a priority, or because of duplication with other funded grants within NOAA. The Regional Administrator will justify in writing any such selection.

The exact amount of funds awarded, the final scope of activities, the project duration, and specific NMFS cooperative involvement with the activities of each project are determined in pre-award negotiations between the applicant, the NOAA Grants Office and the NMFS Program Office. Projects must not be initiated by recipients until a signed award is received from the NOAA Grants Office. Substantial involvement is described as collaboration, participation, or intervention by NMFS in the management of the project. Whether the funding instrument is a grant or a cooperative agreement will be determined by whether there is substantial involvement in the project. A cooperative agreement will be used if NOAA shares responsibility for management, control, or direction with the recipient.

VI. Award Administration Information

1. Award Notices - Successful applications generally are recommended within 150 days from the date of publication of this notice. The earliest start date of awards average 90 days after each project is selected and after all NMFS/applicant negotiations of cooperative activities have been completed. The earliest start date of awards is about 200 days after the date of publication of this notice. Applicants should consider this selection and processing time in developing requested start dates for their applications. Unsuccessful applications will be returned to the applicant.

2. Administrative Requirements - If you are selected to receive a grant or cooperative agreement, you must:

- Manage the day-to-day operations of the project, be responsible for the performance of all activities for which funds are granted, and be responsible for the satisfaction of all administrative and managerial conditions imposed by the award.

- Keep records sufficient to document any costs incurred under the award, and allow access to these records for audit and examination by the Secretary of Commerce, the Comptroller General of the United States, or their authorized representatives; and, submit financial status reports (SF 269) to NOAA Grants in accordance with the award conditions.

3. Reporting - Successful applicants will be required to:

- Submit semiannual project status reports on the use of funds and progress of the project to us within 30 days after the end of each 6-month period. You will submit these reports to the individual identified as the NMFS Program Officer in the funding agreement.

- Submit a final report within 90 days after completion of each project to the NMFS Program Officer. The final report must describe the project and include an evaluation of the work you performed and the results and benefits in sufficient detail to enable us to assess the success of the completed project. We will provide you with formats for the semiannual and final reports.

- In addition to the final report, we request that you submit any publications printed with grant funds (such as manuals, surveys, etc.) To the NMFS Program Officer for dissemination to the public.

We are committed to using available technology to achieve the timely and wide distribution of final reports to those who would benefit from this information. Therefore, you are encouraged to submit final reports in electronic format, in accordance with the award terms and conditions, for publication on the NMFS MARFIN Home Page. You may charge the costs associated with preparing and transmitting your final reports in electronic format to the grant award.

This notice contains collection-of-information requirements subject to the Paperwork Reduction Act. The use of Standard Forms 424 and 269 has been approved by OMB under the respective control numbers 0348-0043 and 0348-0039. The use of the MARFIN Project Budget and MARFIN Project Summary have been approved under the control number 0648-0175.

Public reporting burden for each of the two MARFIN forms is estimated to average 1 hour per response, including the time for reviewing instructions, searching existing data sources, gathering and maintaining the data needed and completing and reviewing the collection of information. Send comments regarding this burden estimate or any other aspect of this collection of information, including suggestions for reducing this burden, to the NMFS Southeast Regional Office, State/Federal Liaison Office (see ADDRESSES).

Notwithstanding any other provision of law, no person is required to respond to, nor shall any person be subject to a penalty for failure to comply with, a collection of information subject to the Paperwork Reduction Act, unless that collection displays a currently valid OMB control number.

VII. Agency Contact(s)

For questions regarding the application process, you may contact: Ellie Francisco Roche, Chief, State/Federal Liaison Office, (727) 570-5324, or at Ellie.Roche@noaa.gov.

Authority: 15 U.S.C. 713c-3(d).

Dated: May 7, 2003.
John Oliver,
Deputy Assistant Administrator for Operations, National Marine Fisheries Service.

[FR Doc. 03-11917 Filed 5-12-03; 8:45 am]

BILLING CODE 3510-22-S